DEPARTMENT OF DEFENSE

Department of the Army, Corps of Engineers

Withdrawal of Notice of Intent (NOI) To Prepare a Draft Environmental Impact Statement for Modification of the Bayou Lafourche and Lafourche-Jump Waterway, Louisiana, Navigation Channel Project in Lafourche Parish

AGENCY: U.S. Army Corps of Engineers, Department of the Army, DoD.

ACTION: Notice of intent; withdrawal.

SUMMARY: The U.S. Army Corps of Engineers (USACE) is issuing this notice to advise Federal, State, and local governmental agencies, and the public that USACE is withdrawing the notice of intent (NOI) for the preparation of the Draft Environmental Impact Statement for Modification of the Bayou Lafourche and Lafourche-Jump Waterway, Louisiana, Navigation Channel Project in Lafourche Parish, which was published in the Federal Register on November 23, 2016. The Nonfederal Sponsor, the Greater Lafourche Port Commission, drafted an Environmental Impact Statement (EIS) and Feasibility Report, which was submitted to the ASA-CW. In 2020, their EIS had an addendum to adjust the controlling depth of the Bayou Lafourche Waterway Federal navigation channel at Port Fourchon, Louisiana, to an engineering, economic and environmentally feasible depth and extend the main access channel to the natural contour of the Gulf of Mexico at the optimum depth. Since then, there has been a reduction of scope which involves less impacts than was anticipated at the time of the NOI, resulting in moving to an Environmental Assessment.

DATES: The notice of intent to prepare an EIS published in the Federal Register on November 23, 2016 (81 FR 84562), is withdrawn as of September 26, 2024.

ADDRESSES: Department of the Army, U.S. Army Corps of Engineers, New Orleans District, 7400 Leake Avenue, New Orleans, LA 70118-3651.

FOR FURTHER INFORMATION CONTACT: Questions about the withdrawal of the Notice of Intent can be directed to Jordan Logarbo, (504) 862-1158 at Jordan.r.logarbo@usace.army.mil.

SUPPLEMENTARY INFORMATION: The reduction in scope includes the following: an adjustment of the proposed dredge depth from the previous proposed maximum dredge depth of −50 ft mean lower low water (MLLW) to a proposed elevation of −30 ft MLLW for the inland reach plus 3 ft of advanced maintenance and to −32 ft MLLW for the offshore reach plus 4 ft of advanced maintenance, and the proposed channel deepening would not require an increase in channel width. The disposal area has also been changed from a marsh creation project to nearshore disposal on the west and east sides of the jetties.

The existing maintenance project was authorized for a navigation channel 300 ft wide with an elevation of −24 ft MLLW on the inland reach for mile 3.4 to Mile 0.0 and to an elevation of −26 ft MLLW for the offshore reach from Mile 0.0 to Mile −1.3. The Port Fourchon Federal navigation channel has been maintained by USACE within the proposed action dimensions and alignment.

The Federal proposed plan includes deepening and maintenance of the Port Fourchon Federal navigation channel which was considered through a 50-year period of analysis. The proposed dredging would start at approximately Station 0+00 and end at approximately Station 330+00. Deepening would be achieved by the same dredging operation that is currently used for maintenance. The existing maintenance project was authorized by WRDA 1996 for a navigation channel 300 ft wide with an elevation of −24 ft MLLW on the inland reach for mile 3.4 to Mile 0.0 and to an elevation of −26 ft MLLW for the offshore reach from Mile 0.0 to Mile −1.3. The proposed action would dredge the Federal navigation channel to an elevation of −30 ft MLLW for the inland reach plus 3 ft of advanced maintenance and to −32 ft MLLW for the offshore reach plus 4 ft of advanced maintenance. The proposed action follows the alignment of the existing maintenance project and extends to the newly authorized limits following the natural contour of the Gulf of Mexico. Dredging would be accomplished with a hydraulic cutter-head dredge and material excavated would be transported to two (2) sites in a slurry via pipeline. The two dredge material disposal sites are located on the exterior of the existing jetties near the intersection with the existing shoreline. Discharge location would be 200 ft offshore and would extend 300-3,000 ft from the jetties in the shallow open water and be allowed to flow.

The study was authorized by section 203 of the Water Resources and Development Act (WRDA) of 1986 (Pub. L. 99-662) as modified by section 1014 of Water Resources and Reform Development Act (WRRDA) 2014. Also, by section 1126 of the Water Infrastructure Improvements of the Nation Act (Pub. L. 114-322) which is also known as WRDA of 2016, and section 1152 of WRDA 2018. Section 203, as amended via the above referenced provisions, allows non-Federal interests, such as GLPC, to undertake feasibility studies of proposed navigation projects and submit them to the (ASA-CW).

The Draft EA was made available for a 30-day public review and comment period beginning on May 17, 2024 and ending on June 15, 2024 and can be found on the study website at https://www.mvn.usace.army.mil/About/Projects/Port-Fourchon/.

James A. Bodron,
Program Director, Mississippi Valley Division.

[FR Doc. 2024-22030 Filed 9-25-24; 8:45 am]

BILLING CODE 3720-58-P